DEPARTMENT OF THE INTERIOR

Bureau of Land Management

Colorado: Filing of Plats of Survey

March 31, 2008.

SUMMARY: The plats of survey of the following described land will be officially filed in the Colorado State Office, Bureau of Land Management, Lakewood, Colorado, effective 10 a.m., March 31, 2008. All inquiries should be sent to the Colorado State Office (CO-956), Bureau of Land Management, 2850 Youngfield Street, Lakewood, Colorado 80215-7093.

The plat and field notes, in duplicate, of the dependent resurvey of the Colorado-New Mexico State Line (S. bdy.), the west boundary, and the subdivisional lines of Township 32 North, Range 19 West, of the New Mexico Principal Meridian, Colorado, were accepted on November 6, 2007.

The plat and field notes, of the dependent resurvey of the Colorado-New Mexico State Line (S. bdy.), and the survey of the subdivisional lines of Township 32 North, Range 15 West, of the New Mexico Principal Meridian, Colorado, were accepted on November 15, 2007.

The plat and/or field notes, in duplicate, of the dependent resurvey and surveys in Townships 35 and 36 North, Range 14 West, New Mexico Principal Meridian, Colorado, were accepted on November 21, 2007.

The plat, in duplicate (in two sheets), of the entire record, of the dependent resurvey and metes and bounds survey in Section 12, Township 1 North, Range 73 West, Sixth Principal Meridian, Colorado, was accepted on January 8, 2008.

The plat and field notes, in duplicate, of the dependent resurvey of two mineral surveys in Township 42 North, Range 10 West, New Mexico Principal Meridian, Colorado, were accepted on February 12, 2008.

The plat, in duplicate (in two sheets), of the entire record, of the resurvey of a portion of the subdivisional lines and a portion of M.S. 20596, Big Stake Lode, in Township 22 South, Range 71 West, Sixth Principal Meridian, Colorado, was accepted on February 20, 2008.

The plat, in duplicate, of the entire record of dependent resurvey of Mineral Survey 18826, Iron Mask No. 2 lode and the survey of a portion of the proposed center line of the Continental Divide Trail, in suspended Township 41 North, Range 6 West, New Mexico Principal Meridian, was accepted on March 6, 2008.

The plat, in duplicate, of the entire record of subdivision survey of west half of the northwest quarter of section 6, Township 33 North, Range 4 West, New Mexico Principal Meridian, Colorado, was accepted on March 31, 2008.

The supplemental plats (2), in duplicate, in section 30, T. 6 S., R. 77 W. and in section 25, T. 6 S., R. 78 W., Sixth Principal Meridian, Colorado, were accepted on March 31, 2008.

Randall M. Zanon,
Chief Cadastral Surveyor for Colorado.

[FR Doc. E8-7057 Filed 4-3-08; 8:45 am]

BILLING CODE 4310-JB-P